DEPARTMENT OF TRANSPORTATION

Office of the Secretary

Aviation Proceedings, Agreements Filed the Week Ending September 8, 2006

The following Agreements were filed with the Department of Transportation under the sections 412 and 414 of the Federal Aviation Act, as amended (49 U.S.C. 1382 and 1384) and procedures governing proceedings to enforce these provisions. Answers may be filed within 21 days after the filing of the application.

Docket Number: OST-2006-25785.

Date Filed: September 5, 2006.

Parties: Members of the International Air Transport Association.

Subject:

MAIL VOTE NUMBER S 085,

Resolution 743b—Baggage Identification Chart,

Intended effective date: February 1, 2007.

Docket Number: OST-2006-25789.

Date Filed: September 5, 2006.

Parties: Members of the International Air Transport Association.

Subject:

Composite Passenger Tariff Coordinating Conference, Composite Resolutions (Memo 1329),

Minutes: Composite Meeting of Passenger Tariff Coordinating Conferences, (Memo 1338),

Intended effective date: April 1, 2007.

Docket Number: OST-2006-25790.

Date Filed: September 5, 2006.

Parties: Members of the International Air Transport Association.

Subject:

Composite Passenger Tariff Coordinating Conference, Composite Resolutions 012, 017f (Memo 1330),

Minutes: Composite Meeting of Passenger Tariff Coordinating Conferences, (Memo 1338),

Intended effective date: April 1, 2007.

Docket Number: OST-2006-25791.

Date Filed: September 5, 2006

Parties: Members of the International Air Transport Association.

Subject:

Composite Passenger Tariff Coordinating Conference, Composite Resolutions 300, 301 (Memo 1331),

Minutes: Composite Meeting of Passenger Tariff Coordinating Conferences, (Memo 1338),

Intended effective date: April 1, 2007.

Renee V. Wright,
Program Manager, Docket Operations, Federal Register Liaison.

[FR Doc. E6-15945 Filed 9-27-06; 8:45 am]

BILLING CODE 4910-9X-P